DEPARTMENT OF THE TREASURY

Submission for OMB Review; Comment Request

January 30, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 8, 2004, to be assured of consideration.

Financial Management Service (FMS)

OMB Number: 1510-0019.

Form Number: FMS-1133 (Electronic Pre-Printed Information).

Type of Review: Extension.

Title: Claim Against the United States for the Proceeds of a Government Check.

Description: The FMS-1133 form is used to collect information needed to process an individual's claim for non-receipt of proceeds from a government check. Once the information is analyzed, a determination is made and a recommendation is submitted to the program agency to either settle or deny the claim.

Respondents: Individuals or households.

Estimated Number of Respondents: 67,877.

Estimated Burden Hours Per Respondent: 10 minutes.

Frequency of Response: Other (as needed).

Estimated Total Reporting Burden: 10,482 hours.

Clearance Officer: Jiovannah L. Diggs, (202) 874-7662, Financial Management Service, Administrative Programs Division, Records and Information Management Program, 3700 East West Highway, Room 144, Hyattsville, MD 20782.

OMB Reviewer: Joseph F. Lackey, Jr., (202) 395-7316, Office of Management and Budget, Room 10235, New Executive Office Building,Washington, DC 20503.

Lois K. Holland,
Departmental Reports, Management Officer.

[FR Doc. 04-2460 Filed 2-4-04; 8:45 am]

BILLING CODE 4810-35-P